DEPARTMENT OF COMMERCE

National Institute of Standards and Technology

Manufacturing Extension Partnership National Advisory Board

AGENCY: National Institute of Standards and Technology, Department of Commerce.

ACTION: Notice of Public Meeting.

SUMMARY: Pursuant to the Federal Advisory Committee Act, 5 U.S.C. app. 2, notice is hereby given that the Manufacturing Extension Partnership National Advisory Board (MEPNAB), National Institute of Standards and Technology (NIST), will meet Wednesday, March 21, 2007, from 9 a.m. to 4:30 p.m. The MEPNAB is composed of six members appointed by the Director of NIST who were selected for their expertise in the area of industrial extension and their work on behalf of smaller manufacturers. The Board was established to fill a need for outside input on MEP. MEP is a unique program consisting of centers across the United States and Puerto Rico, with partnerships at the State, Federal, and local levels. The Board works closely with MEP to provide input and advice on MEP's programs, plans, and policies. The purpose of this meeting is to provide the board with the latest program developments including NIST Update, MEP Overview, presentations on MEP Partnerships and Program Evaluation. The agenda may change to accommodate Board business.

DATES: The meeting will convene March 21, 2007 at 9 a.m. and will adjourn at 4:30 p.m. on March 21, 2007.

ADDRESSES: The meeting will be held at the Atrium Court Hotel, 3 Research Court, Rockville, Maryland 20850. Anyone wishing to attend this meeting should contact NIST MEP by March 14, 2007. Please submit your name, time of arrival, e-mail address and phone number to Susan Hayduk no later than Monday, March 19, 2007. Ms. Hayduk's e-mail address is susan.hayduk@nist.gov and her phone number is (301) 975-5614.

FOR FURTHER INFORMATION CONTACT: Karen Lellock, Manufacturing Extension Partnership, National Institute of Standards and Technology, Gaithersburg, Maryland 20899-4800, telephone number (301) 975-4269.

Dated: March 1, 2007.
James E. Hill,
Acting Deputy Director.

[FR Doc. E7-3874 Filed 3-5-07; 8:45 am]

BILLING CODE 3510-13-P